DEPARTMENT OF HEALTH AND HUMAN SERVICES

Centers for Disease Control and Prevention

[60 Day-13-0739]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Oral Health Management Information System (OMB No. 0920-0739, exp. 5/31/2013)—Extension—National Center for Chronic Disease Prevention and Public Health Promotion (NCDDPHP), Centers for Disease Control and Prevention (CDC).

Background and Brief Description

The CDC seeks to improve the oral health of the nation by targeting efforts to improve the infrastructure of state and territorial oral health departments, strengthen and enhance program capacity related to monitoring the population's oral health status and behaviors, develop effective programs to improve the oral health of children and adults, evaluate program accomplishments, and inform key stakeholders, including policy makers, of program results. Through a cooperative agreement program (Program Announcement DP08-802 and DP10-1012), CDC has provided funding to 20 states to strengthen their core oral health infrastructure and capacity. CDC funding also helps states reduce health disparities among high-risk populations including, but not limited to, those of lower socioeconomic status (SES), Hispanic Americans, African Americans, and other ethnic groups.

NCCDPHP is currently pursuing a key initiative to improve the efficiency and effectiveness of CDC project officers who oversee the state and territorial oral health programs. An electronic management information system (MIS) to support program management, consulting and evaluation has been developed in support of the cooperative agreement. The MIS provides a central repository of information, such as the plans of the state or territorial oral health programs (their goals, objectives, performance milestones and indicators), as well as state and territorial oral health performance activities including programmatic and financial information. State oral health programs have used the MIS to submit their required semi-annual reports to CDC (CDC Oral Health Management Information System, OMB No. 0920-0739, exp. 5/31/2013). The last report under the current Funding Opportunity Announcement (FOA) is due on October 31, 2013.

CDC is requesting OMB approval to extend clearance for the MIS until December 31, 2013. Information will be reported to CDC once during this period. The extension will allow CDC to receive final reports from the state oral health programs and to provide any technical assistance or follow-up support that may be needed to produce accurate final reports. The estimated burden per response is 11 hours.

All information will be collected electronically. There is no change to the estimated number of respondents or the burden per response. There are no costs to respondents other than their time.

Estimated Annualized Burden Hours
Type of respondents | Number of respondents | Number of responses per respondent | Average burden per response (in hours) | Total burden (in hours)
State Oral Health Programs | 20 | 1 | 11 | 220

Dated: December 27, 2012.
Ron A. Otten,
Director, Office of Scientific Integrity (OSI), Office of the Associate Director for Science (OADS), Office of the Director, Centers for Disease Control and Prevention.

[FR Doc. 2012-31600 Filed 1-2-13; 8:45 am]

BILLING CODE 4163-18-P